FEDERAL COMMUNICATIONS COMMISSION

47 CFR Parts 1, 2, and 97

[WT Docket No. 04-140; FCC 06-149]

Amateur Service Rules

AGENCY: Federal Communications Commission.

ACTION: Final rule.

SUMMARY: In this document, the Commission amends its Amateur Radio Service rules to revise the frequency segments of the 80 meter and 40 meter amateur service High Frequency (HF) bands on which amateur stations are authorized to transmit voice communications; authorize amateur stations to transmit certain emission types on additional amateur service bands or frequency segments; revise the procedures for the amateur service vanity call sign system; eliminate unnecessary restrictions imposed on manufacturers of certain types of equipment that may be used at amateur stations; and make other conforming amendments to the amateur service rules.

DATES: Effective December 15, 2006.

FOR FURTHER INFORMATION CONTACT: William T. Cross, Wireless Telecommunications Bureau at (202) 418-0620, or TTY (202) 418-7233.

SUPPLEMENTARY INFORMATION: This is a summary of the Commission's Report and Order, in WT Docket No. 04-140; FCC 06-149, adopted October 4, 2006, and released October 10, 2006. The complete text of this document is available for inspection and copying during normal business hours in the FCC's Reference Information Center, 445 12th Street, SW., Room CY-A257, Washington, DC. Alternative formats (Braille, large print, electronic files, audio format) are available for people with disabilities by sending an e-mail to FCC504@fcc.gov or, calling the Consumer and Government Affairs Bureau at (202) 418-0530 (voice), (202) 418-0432 (TTY). The Order also may be downloaded from the Commission's Web site at http://www.fcc.gov/.

1. In this Report and Order the Commission adopts changes to its part 97 rules to conform the amateur service rules to the international Radio Regulations. The overall effect of this action is to further the public interest by allowing amateur service licensees to use the spectrum more efficiently, and by allowing amateur service stations to operate with fewer restrictions. The changes adopted in this Report and Order were proposed in the Notice of Proposed Rulemaking at 69 FR 51028, August 17, 2004. Over 150 comments on the proposed rule changes were received and changes to the proposed rules based on these comments are included in this Report and Order.

2. Specifically, the Commission (1) revises the operating privileges of amateur radio operators to allow more spectrum in four currently-authorized amateur service HF bands to be used for voice communications; (2) permits auxiliary stations to transmit on additional amateur service bands; (3) permits amateur stations to transmit spread spectrum communications on the 1.25 meter (m) band; (4) permits amateur stations to retransmit communications from the International Space Station; (5) permits amateur service licensees to designate the amateur radio club to receive their call sign in memoriam; (6) prohibits an applicant from filing more than one application for a specific vanity call sign; (7) eliminates certain restrictions on equipment manufacturers that are no longer necessary; (8) permits amateur radio stations operating in Alaska and surrounding waters more flexibility in providing emergency communications; and (9) removes certain restrictions in the amateur service license examination system that are no longer necessary. The effect of these revisions are to provide licensees with greater flexibility in the utilization of amateur service frequencies, promote efficient use of the Amateur Radio Service spectrum by authorizing communications that include both analog and digital emission types to be transmitted on currently-authorized amateur service spectrum, and eliminate unnecessary requirements that may limit the flexibility of the amateur service license examination system.

I. Procedural Matters

A. Paperwork Reduction Act Analysis

3. This document does not contain any new or modified information collection requirements subject to the Paperwork Reduction Act of 1995 (PRA), Public Law 104-13. Therefore, it does not contain any new or modified “information collection burden for small business concerns with fewer than 25 employees,” pursuant to the Small Business Paperwork Relief Act of 2002, Public Law 107-198, see 44 U.S.C. 3506(c)(4).

B. Report to Congress

4. The Commission will send a copy of the Report and Order, including this Final Regulatory Flexibility Certification, in a report to be sent to Congress and the Congressional Budget Office pursuant to the Congressional Review Act. In addition, the Commission will send a copy of the Report and Order, including the Final Regulatory Flexibility Certification, to the Chief Counsel for Advocacy of the SBA and the Final Regulatory Flexibility Certification will also be published in the Federal Register.

C. Final Regulatory Flexibility Certification

5. In this Report and Order, we amend the rules that specify how an individual who has qualified for an amateur service operator license can use an amateur radio station consistent with the basis and furthering the purpose of the amateur service. The amended rules apply exclusively to individuals who are licensees in the amateur radio service. Given the definition of a “small entity,” none of these individuals are small entities as the term is used in the RFA. In addition, the amended rules reflected in this Report and Order potentially could affect manufactures of amateur radio equipment. Based on requests that the Commission has received for certification of amplifiers under part 97 of the Rules, we estimate that there are between five and ten manufactures of amateur radio amplifiers and that by the relevant SBA standard none of these manufactures are small entities. We also note that the rule changes will apply to amateur radio licensees and control operators of amateur radio stations and will not have a necessary impact on manufactures of amplifiers that may be used at amateur radio stations. Therefore, we certify that the rules reflected in this Report and Order will not have a significant economic impact on a substantial number of small entities.

D. Ordering Clauses

6. Pursuant to sections 4(i), 303(f), 303(r), and 332 of the Communications Act of 1934, as amended, 47 U.S.C. 154(i), 303(f), 303(r) and 332, that parts 1, 2, and 97 of the Commission's Rules are amended as specified below.

List of Subjects

47 CFR Part 1

Administrative practice and procedure.

47 CFR Part 2

Communications equipment, Telecommunications.

47 CFR Part 97

Radio.

Federal Communications Commission.
Marlene H. Dortch,
Secretary.

Rule Changes

For the reasons discussed in the preamble, the Federal Communications Commission amends 47 CFR parts 1, 2, and 97 as follows:

PART 1—APPLICATION REQUIREMENTS AND PROCEDURES

1. The authority citation for part 1 continues to read as follows:

Authority: 47 U.S.C. 151, 154(i), 154(j), 155, 225, 303(r), 309 and 325(e).

2. Amend § 1.934 by adding paragraph (d)(5) to read as follows:

§ 1.934 Defective applications and dismissal.

* * * * *

(d) * * *

(5) It requests a vanity call sign and the applicant has pending another vanity call sign application with the same receipt date.

* * * * *

PART 2—FREQUENCY ALLOCATIONS AND RADIO TREATY MATTERS; GENERAL RULES AND REGULATIONS

3. The authority citation for part 2 continues to read as follows:

Authority: 47 U.S.C. 154, 302a, 303, and 336, unless otherwise noted.

4. Amend § 2.106 by revising United States footnotes US212 and US267 to read as follows:

§ 2.106 Table of Frequency Allocation.

* * * * *

US212 In, or within 92.6 km (50 nautical miles) of, the State of Alaska, the carrier frequency 5167.5 kHz (assigned frequency 5168.9 kHz) is designated for emergency communications. This frequency may also be used in the Alaska-Private Fixed Service for calling and listening, but only for establishing communications before switching to another frequency. The maximum power is limited to 150 watts peak envelope power (PEP).

* * * * *

US267 In the band 902-928 MHz, amateur radio stations shall transmit only on the frequency segments 902.0-902.4, 902.6-904.3, 904.7-925.3, 925.7-927.3, and 927.7-928.0 MHz within the States of Colorado and Wyoming, bounded by the area of latitude 39°N. to 42°N. and longitude 103°W. to 108°W.

* * * * *

5. Amend § 2.815 by revising paragraph (b), and removing paragraphs (c), (d), and (e) to read as follows:

§ 2.815 External radio frequency power amplifiers.

* * * * *

(b) No person shall manufacture, sell or lease, offer for sale or lease (including advertising for sale or lease) or import, ship or distribute for the purpose of selling or leasing or offering for sale or lease, any external radio frequency power amplifier capable of operation on any frequency or frequencies below 144 MHz unless the amplifier has received a grant of certification in accordance with subpart J of this part and other relevant parts of this chapter. These amplifiers shall comply with the following:

(1) The external radio frequency power amplifier shall not be capable of amplification in the frequency band 26-28 MHz.

(2) The amplifier shall not be capable of easy modification to permit its use as an amplifier in the frequency band 26-28 MHz.

(3) No more than 10 external radio frequency power amplifiers may be constructed for evaluation purposes in preparation for the submission of an application for a grant of certification.

(4) If the external radio frequency power amplifier is intended for operation in the Amateur Radio Service under part 97 of this chapter, the requirements of §§ 97.315 and 97.317 of this chapter shall be met.

6. Amend § 2.1060 by removing paragraph (c), redesignating paragraph (d) as paragraph (c) and revising newly designated paragraph (c) to read as follows:

§ 2.1060 Equipment for use in the amateur radio service.

* * * * *

(c) Certification of external radio frequency power amplifiers may be denied when denial would prevent the use of these amplifiers in services other than the Amateur Radio Service.

PART 97—AMATEUR RADIO SERVICE

7. The authority citation for part 97 continues to read as follows:

Authority: 48 Stat. 1066, 1082, as amended; 47 U.S.C. 154, 303. Interpret or apply 48 Stat. 1064-1068, 1081-1105, as amended; 47 U.S.C. 151-155, 301-609, unless otherwise noted.

8. Amend § 97.3 by removing and reserving paragraph (a)(19) and revising paragraph (c)(2) to read as follows:

§ 97.3 Definitions.

* * * * *

(c) * * *

(2) Data. Telemetry, telecommand and computer communications emissions having designators with A, C, D, F, G, H, J or R as the first symbol; 1 as the second symbol; D as the third symbol, and emissions A1C, F1C, F2C, J2C, J3C, and J2D having an occupied bandwidth of 500 Hz or less when transmitted on an amateur service frequency below 30 MHz. Only a digital code of a type specifically authorized in this part may be transmitted.

* * * * *

9. Amend § 97.19 by revising paragraphs (c)(3) and (d)(1) to read as follows:

§ 97.19 Application for a vanity call sign.

* * * * *

(c) * * *

(3) Except for an applicant who is the spouse, child, grandchild, stepchild, parent, grandparent, step-parent, brother, sister, stepbrother, stepsister, aunt, uncle, niece, nephew, or in-law, and except for an applicant who is a club station license trustee acting with a written statement of consent signed by either the licensee ante mortem but who is now deceased or by at least one relative, as listed above, of the person now deceased, the call sign shown on the license of the person now deceased is not available to the vanity call sign system for 2 years following the person's death, or for 2 years following the expiration of the license grant, whichever is sooner.

(d) * * *

(1) The applicant must request that the call sign shown on the license grant be vacated and provide a list of up to 25 call signs in order of preference. In the event that the Commission receives more than one application requesting a vanity call sign from an applicant on the same receipt day, the Commission will process only the first such application entered into the Universal Licensing System. Subsequent vanity call sign applications from that applicant with the same receipt date will not be accepted.

* * * * *

10. Amend § 97.103 by revising paragraph (c) to read as follows:

§ 97.103 Station licensee responsibilities.

* * * * *

(c) The station licensee must make the station and the station records available for inspection upon request by an FCC representative. When deemed necessary by a District Director to assure compliance with the FCC Rules, the station licensee must maintain a record of station operations containing such items of information as the District Director may require in accord with § 0.314(x) of the FCC Rules.

11. Amend § 97.111 by redesignating paragraphs (a)(2) through (a)(4) as (a)(3) through (a)(5) and adding a new paragraph (a)(2) to read as follows:

§ 97.111 Authorized transmissions.

(a) * * *

(2) Transmissions necessary to meet essential communication needs and to facilitate relief actions.

* * * * *

12. Amend § 97.113 by revising paragraph (e) to read as follows:

§ 97.113 Prohibited transmissions.

* * * * *

(e) No station shall retransmit programs or signals emanating from any type of radio station other than an amateur station, except propagation and weather forecast information intended for use by the general public and originated from United States Government stations, and communications, including incidental music, originating on United States Government frequencies between a manned spacecraft and its associated Earth stations. Prior approval for manned spacecraft communications retransmissions must be obtained from the National Aeronautics and Space Administration. Such retransmissions must be for the exclusive use of amateur radio operators. Propagation, weather forecasts, and manned spacecraft communications retransmissions may not be conducted on a regular basis, but only occasionally, as an incident of normal amateur radio communications.

* * * * *

13. Amend § 97.115 by revising paragraph (b)(2), redesignating paragraph (c) as paragraph (d), and adding a new paragraph (c) to read as follows:

§ 97.115 Third party communications.

* * * * *

(b) * * *

(2) The third party is not a prior amateur service licensee whose license was revoked or not renewed after hearing and re-licensing has not taken place; suspended for less than the balance of the license term and the suspension is still in effect; suspended for the balance of the license term and re-licensing has not taken place; or surrendered for cancellation following notice of revocation, suspension or monetary forfeiture proceedings. The third party may not be the subject of a cease and desist order which relates to amateur service operation and which is still in effect.

(c) No station may transmit third party communications while being automatically controlled except a station transmitting a RTTY or data emission.

* * * * *

14. Amend § 97.201 by revising paragraph (b) to read as follows:

§ 97.201 Auxiliary station.

* * * * *

(b) An auxiliary station may transmit only on the 2 m and shorter wavelength bands, except the 144.0-144.5 MHz, 145.8-146.0 MHz, 219-220 MHz, 222.00-222.15 MHz, 431-433 MHz, and 435-438 MHz segments.

* * * * *

15. Amend § 97.203 by revising paragraph (f) to read as follows:

§ 97.203 Beacon station.

* * * * *

(f) A beacon must cease transmissions upon notification by a District Director that the station is operating improperly or causing undue interference to other operations. The beacon may not resume transmitting without prior approval of the District Director.

* * * * *

16. Amend § 97.207 by revising paragraph (g) and removing paragraphs (h) and (i) to read as follows:

§ 97.207 Space station.

* * * * *

(g) The license grantee of each space station must make the following written notifications to the International Bureau, FCC, Washington, DC 20554.

(1) A pre-space notification within 30 days after the date of launch vehicle determination, but no later than 90 days before integration of the space station into the launch vehicle. The notification must be in accordance with the provisions of Articles 9 and 11 of the International Telecommunication Union (ITU) Radio Regulations and must specify the information required by Appendix 4 and Resolution No. 642 of the ITU Radio Regulations. The notification must also include a description of the design and operational strategies that the space station will use to mitigate orbital debris, including the following information:

(i) A statement that the space station licensee has assessed and limited the amount of debris released in a planned manner during normal operations, and has assessed and limited the probability of the space station becoming a source of debris by collisions with small debris or meteoroids that could cause loss of control and prevent post-mission disposal;

(ii) A statement that the space station licensee has assessed and limited the probability of accidental explosions during and after completion of mission operations. This statement must include a demonstration that debris generation will not result from the conversion of energy sources on board the spacecraft into energy that fragments the spacecraft. Energy sources include chemical, pressure, and kinetic energy. This demonstration should address whether stored energy will be removed at the spacecraft's end of life, by depleting residual fuel and leaving all fuel line valves open, venting any pressurized system, leaving all batteries in a permanent discharge state, and removing any remaining source of stored energy, or through other equivalent procedures specifically disclosed in the application;

(iii) A statement that the space station licensee has assessed and limited the probability of the space station becoming a source of debris by collisions with large debris or other operational space stations. Where a space station will be launched into a low-Earth orbit that is identical, or very similar, to an orbit used by other space stations, the statement must include an analysis of the potential risk of collision and a description of what measures the space station operator plans to take to avoid in-orbit collisions. If the space station licensee is relying on coordination with another system, the statement must indicate what steps have been taken to contact, and ascertain the likelihood of successful coordination of physical operations with, the other system. The statement must disclose the accuracy—if any—with which orbital parameters of non-geostationary satellite orbit space stations will be maintained, including apogee, perigee, inclination, and the right ascension of the ascending node(s). In the event that a system is not able to maintain orbital tolerances, i.e., it lacks a propulsion system for orbital maintenance, that fact should be included in the debris mitigation disclosure. Such systems must also indicate the anticipated evolution over time of the orbit of the proposed satellite or satellites. Where a space station requests the assignment of a geostationary-Earth orbit location, it must assess whether there are any known satellites located at, or reasonably expected to be located at, the requested orbital location, or assigned in the vicinity of that location, such that the station keeping volumes of the respective satellites might overlap. If so, the statement must include a statement as to the identities of those parties and the measures that will be taken to prevent collisions;

(iv) A statement detailing the post-mission disposal plans for the space station at end of life, including the quantity of fuel—if any—that will be reserved for post-mission disposal maneuvers. For geostationary-Earth orbit space stations, the statement must disclose the altitude selected for a post-mission disposal orbit and the calculations that are used in deriving the disposal altitude. The statement must also include a casualty risk assessment if planned post-mission disposal involves atmospheric re-entry of the space station. In general, an assessment should include an estimate as to whether portions of the spacecraft will survive re-entry and reach the surface of the Earth, as well as an estimate of the resulting probability of human casualty.

(v) If any material item described in this notification changes before launch, a replacement pre-space notification shall be filed with the International Bureau no later than 90 days before integration of the space station into the launch vehicle.

(2) An in-space station notification is required no later than 7 days following initiation of space station transmissions. This notification must update the information contained in the pre-space notification.

(3) A post-space station notification is required no later than 3 months after termination of the space station transmissions. When termination of transmissions is ordered by the FCC, the notification is required no later than 24 hours after termination of transmissions.

17. Amend § 97.301 as follows:

(a) Revise entries 80 and 75 in the HF frequency band of the table following paragraph (b);

(b) Revise entries 80, 75, 15, and -Do- in the HF frequency of the table following paragraph (c);

(c) Revise entries 80, 75, 40, and -Do- in the HF frequency of the table following paragraph (d); and

(d) Revise entries 80, 40, 15, and 10 in the HF frequency band of the table following paragraph (e).

The revisions read as follows:

§ 97.301 Authorized frequency bands.

* * * * *

(b) * * *

Wavelength band | ITU region 1 | ITU region 2 | ITU region 3 | Sharing requirements see § 97.303, (paragraph)
* * * * * * *
HF | MHz | MHz | MHz
80 m | 3.50-3.60 | 3.50-3.60 | 3.50-3.60 | (a)
75 m | 3.60-3.80 | 3.60-4.00 | 3.60-3.90 | (a)
* * * * * * *

(c) * * *

Wavelength band | ITU region 1 | ITU region 2 | ITU region 3 | Sharing requirements see § 97.303, (paragraph)
* * * * * * *
HF | MHz | MHz | MHz
80 m | 3.525-3.60 | 3.525-3.60 | 3.525-3.60 | (a)
75 m | 3.70-3.80 | 3.70-4.00 | 3.700-3.90 | (a)
* * * * * * *
15 m | 21.025-21.20 | 21.025-21.20 | 21.025-21.20
Do | 21.225-21.45 | 21.225-21.45 | 21.225-21.45
* * * * * * *

(d) * * *

Wavelength band | ITU region 1 | ITU region 2 | ITU region 3 | Sharing requirements see § 97.303, (paragraph)
* * * * * * *
HF | MHz | MHz | MHz
80 m | 3.525-3.60 | 3.525-3.60 | 3.525-3.60 | (a)
75 m |  | 3.80-4.00 | 3.80-3.90 | (a)
40 m | 7.025-7.125 | 7.025-7.125 | 7.025-7.125 | (a)
Do |  | 7.175-7.300 |  | (a)
* * * * * * *
15 m | 21.025-21.20 | 21.025-21.20 | 21.025-21.20
Do | 21.275-21.45 | 21.275-21.45 | 21.275-21.45
* * * * * * *

(e) * * *

Wavelength band | ITU region 1 | ITU region 2 | ITU region 3 | Sharing requirements see § 97.303, (paragraph)
* * * * * * *
HF | MHz | MHz | MHz
80 m | 3.525-3.60 | 3.525-3.60 | 3.525-3.60 | (a)
40 m | 7.025-7.075 | 7.025-7.125 | 7.025-7.075 | (a)
15 m | 21.025-21.20 | 21.025-21.20 | 21.025-21.20
10 m | 28.0-28.5 | 28.0-28.5 | 28.0-28.5
* * * * * * *

18. Amend § 97.303 by revising paragraph (g)(1) to read as follows:

§ 97.303 Frequency sharing requirements.

* * * * *

(g) * * *

(1) In the States of Colorado and Wyoming, bounded by the area of latitude 396° N. to 42° N. and longitude 103° W. to 108° W., an amateur station may transmit in the 902 MHz to 928 MHz band only on the frequency segments 902.0-902.4, 902.6-904.3, 904.7-925.3, 925.7-927.3, and 927.7-928.0 MHz. This band is allocated on a secondary basis to the amateur service subject to not causing harmful interference to, and not receiving any interference protection from, the operation of industrial, scientific and medical devices, automatic vehicle monitoring systems, or Government stations authorized in this band.

* * * * *

19. Amend § 97.305 by revising paragraph (a) and the entries for 40 in the HF frequency band, and entries 1.25, and -Do- in the VHF frequency band to the table following paragraph (c) to read as follows:

§ 97.305 Authorized emission types.

(a) Except as specified elsewhere in this part, an amateur station may transmit a CW emission on any frequency authorized to the control operator.

(b) * * *

(c) * * *

Wavelength | Frequencies band | Emission types authorized | Standards see § 97.307(f), (paragraph)
* * * * * * *
HF
* * * * * * *
40 m | 7.000-7.100 MHz | RTTY, data | (3), (9)
40 m | 7.075-7.100 MHz | Phone, image | (1), (2), (9), (11)
40 m | 7.100-7.125 MHz | RTTY, data | (3), (9)
40 m | 7.125-7.300 MHz | Phone, image | (1), (2)
* * * * * * *
VHF
* * * * * * *
1.25 m | 219-220 MHz | Data | (13)
Do | 222-225 MHz | RTTY, data, test MCW, phone, SS, image | (2), (6), (8)
* * * * * * *

* * * * *

20. Amend § 97.309 by revising paragraph (b) introductory text to read as follows:

§ 97.309 RTTY and data emission codes.

* * * * *

(b) Where authorized by §§ 97.305(c) and 97.307(f) of this part, a station may transmit a RTTY or data emission using an unspecified digital code, except to a station in a country with which the United States does not have an agreement permitting the code to be used. RTTY and data emissions using unspecified digital codes must not be transmitted for the purpose of obscuring the meaning of any communication. When deemed necessary by a District Director to assure compliance with the FCC Rules, a station must:

* * * * *

21. Amend § 97.313 by revising paragraph (c) introductory text, (c)(1) and (c)(2) to read as follows:

§ 97.313 Transmitter power standards.

* * * * *

(c) No station may transmit with a transmitter power exceeding 200 W PEP:

(1) On the 10.10-10.15 MHz segment;

(2) When the control operator is a Novice Class operator or a Technician Class operator who has received credit for proficiency in telegraphy in accordance with the international requirements; or

* * * * *

22. Revise § 97.315 to read as follows:

§ 97.315 Certification of external RF power amplifiers.

(a) Any external RF power amplifier (see § 2.815 of the FCC Rules) manufactured or imported for use at an amateur radio station must be certificated for use in the amateur service in accordance with subpart J of part 2 of the FCC Rules. No amplifier capable of operation below 144 MHz may be constructed or modified by a non-amateur service licensee without a grant of certification from the FCC.

(b) The requirement of paragraph (a) does not apply if one or more of the following conditions are met:

(1) The amplifier is constructed or modified by an amateur radio operator for use at an amateur station.

(2) The amplifier was manufactured before April 28, 1978, and has been issued a marketing waiver by the FCC, or the amplifier was purchased before April 28, 1978, by an amateur radio operator for use at that operator's station.

(3) The amplifier is sold to an amateur radio operator or to a dealer, the amplifier is purchased in used condition by a dealer, or the amplifier is sold to an amateur radio operator for use at that operator's station.

(c) Any external RF power amplifier appearing in the Commission's database as certificated for use in the amateur service may be marketed for use in the amateur service.

23. Revise § 97.317 to read as follows:

§ 97.317 Standards for certification of external RF power amplifiers.

(a) To receive a grant of certification, the amplifier must:

(1) Satisfy the spurious emission standards of § 97.307 (d) or (e) of this part, as applicable, when the amplifier is operated at the lesser of 1.5 kW PEP or its full output power and when the amplifier is placed in the “standby” or “off” positions while connected to the transmitter.

(2) Not be capable of amplifying the input RF power (driving signal) by more than 15 dB gain. Gain is defined as the ratio of the input RF power to the output RF power of the amplifier where both power measurements are expressed in peak envelope power or mean power.

(3) Exhibit no amplification (0 dB gain) between 26 MHz and 28 MHz.

(b) Certification shall be denied when:

(1) The Commission determines the amplifier can be used in services other than the Amateur Radio Service, or

(2) The amplifier can be easily modified to operate on frequencies between 26 MHz and 28 MHz.

24. Revise § 97.401 to read as follows:

§ 97.401 Operation during a disaster.

A station in, or within 92.6 km (50 nautical miles) of, Alaska may transmit emissions J3E and R3E on the channel at 5.1675 MHz (assigned frequency 5.1689 MHz) for emergency communications. The channel must be shared with stations licensed in the Alaska-Private Fixed Service. The transmitter power must not exceed 150 W PEP. A station in, or within 92.6 km of, Alaska may transmit communications for tests and training drills necessary to ensure the establishment, operation, and maintenance of emergency communication systems.

25. Amend § 97.407 by revising paragraph (b) to read as follows:

§ 97.407 Radio amateur civil emergency service.

* * * * *

(b) The frequency bands and segments and emissions authorized to the control operator are available to stations transmitting communications in RACES on a shared basis with the amateur service. In the event of an emergency which necessitates invoking the President's War Emergency Powers under the provisions of section 706 of the Communications Act of 1934, as amended, 47 U.S.C. 606, RACES stations and amateur stations participating in RACES may only transmit on the frequency segments authorized pursuant to part 214 of this chapter.

* * * * *

26. Amend § 97.505 by revising paragraph (a)(9) to read as follows:

§ 97.505 Element credit.

(a) * * *

(9) An expired FCC-granted Technician Class operator license document granted before February 14, 1991; an expired FCC-granted Technician Class operator license document granted after February 14, 1991 accompanied by documentation showing the examinee has passed a telegraphy examination; or an expired FCC-granted General, Advanced, or Amateur Extra Class operator license document: Element 1.

* * * * *

27. Amend § 97.509 by revising paragraphs (a) and (m) to read as follows:

§ 97.509 Administering VE requirements.

(a) Each examination for an amateur operator license must be administered by a team of at least 3 VEs at an examination session coordinated by a VEC. The number of examinees at the session may be limited.

* * * * *

(m) After the administration of a successful examination for an amateur operator license, the administering VEs must submit the application document to the coordinating VEC according to the coordinating VEC's instructions.

28. Amend § 97.519 by revising paragraph (b) introductory text to read as follows:

§ 97.519 Coordinating examination sessions.

* * * * *

(b) At the completion of each examination session, the coordinating VEC must collect applicant information and test results from the administering VEs. The coordinating VEC must:

* * * * *

[FR Doc. E6-19189 Filed 11-14-06; 8:45 am]

BILLING CODE 6712-01-P